DEPARTMENT OF COMMERCE

International Trade Administration

[A-570-904]

Certain Activated Carbon From the People's Republic of China: Amended Final Results of Antidumping Duty Administrative Review; 2022-2023

AGENCY: Enforcement and Compliance, International Trade Administration, Department of Commerce.

SUMMARY: The U.S. Department of Commerce (Commerce) is amending the final results of the administrative review of the antidumping duty (AD) order on certain activated carbon (activated carbon) from the People's Republic of China (China) to correct ministerial errors. Based on the amended final results, we find that the companies under review sold activated carbon in the United States at less than normal value during the period of review (POR), April 1, 2022, through March 31, 2023.

DATES: Applicable December 26, 2024.

FOR FURTHER INFORMATION CONTACT: Andrew Hart or Katherine Smith, AD/CVD Operations, Office II, Enforcement and Compliance, International Trade Administration, U.S. Department of Commerce, 1401 Constitution Avenue NW, Washington, DC 20230; telephone: (202) 482-1058 or (202) 482-0557, respectively.

SUPPLEMENTARY INFORMATION:

Background

On November 25, 2024, Commerce published in the Federal Register the final results of the 2022-2023 administrative review of the AD order on activated carbon from China.¹ On November 20, 2024, we received a timely submitted ministerial error allegation from the mandatory respondents, Jilin Bright Future Chemicals Co., Ltd. (Jilin Bright) and Ningxia Guanghua Cherishmet Activated Carbon Co., Ltd. (GHC).² On November 25, 2024, Calgon Carbon Corporation and Norit Americas Inc. (the petitioners), submitted comments in response to the ministerial error allegations filed on behalf of GHC and Jilin Bright.³ We received no other ministerial error comments from interested parties. Commerce is amending the Final Results to correct the ministerial errors.

¹ See Certain Activated Carbon from the People's Republic of China: Final Results of Antidumping Duty Administrative Review; 2022-2023, 89 FR 92893 (November 25, 2024) (Final Results), and accompanying Issues and Decision Memorandum (IDM).

² See Jilin Bright's Letter, “Ministerial Error Allegations,” dated November 20, 2024 (Jilin Bright's Ministerial Error Allegation); see also GHC's Letter, “Ningxia Guanghua Cherishment Ministerial Error Allegations,” dated November 20, 2024 (GHC's Ministerial Error Allegation).

³ See Petitioners' Letter, “Petitioners' Response to GHC's Ministerial Error Allegation,” dated November 25, 2024; see also Petitioners' Letter, “Petitioners' Response to Jilin Bright's Ministerial Error Allegation,” dated November 25, 2024.

Legal Framework

Section 751(h) of the Tariff Act of 1930, as amended (the Act), defines a “ministerial error” as including “errors in addition, subtraction, or other arithmetic function, clerical errors resulting from inaccurate copying, duplication, or the like, and any other unintentional error which the administering authority considers ministerial.” ⁴ With respect to final results of administrative reviews, 19 CFR 351.224(e) provides that Commerce “will analyze any comments received and, if appropriate, correct any . . . ministerial error by amending the final results of review . . .”

⁴ See 19 CFR 351.224(f).

Ministerial Error

Commerce reviewed the record, and we agree that the errors alleged by the mandatory respondents constitute ministerial errors within the meaning of section 751(h) of the Act and 19 CFR 351.224(f).⁵ Specifically, we find that we made inadvertent errors related to the inclusion of two selling, general, and administrative (SG&A) expenses in the average financial ratios utilized in the review.⁶ We also agree with GHC's allegation related to the incorrect surrogate value being applied to a factor of production.⁷ Pursuant to 19 CFR 351.224(e), Commerce is amending the Final Results to reflect the correction of the ministerial errors, as described in the Ministerial Error Memorandum.⁸ Based on the corrections, Jilin Bright's final dumping margin changed from 1.95 dollars per kilogram to 1.90 dollars per kilogram and GHC's final dumping margin changed from 1.21 dollars per kilogram to 1.10 dollars per kilogram. As a result, we are also revising the rate assigned to the non-individually examined separate rate companies, utilizing the same methodology in the Final Results,⁹ from 1.44 dollars per kilogram to 1.35 dollars per kilogram. The amended estimated weighted-average dumping margins are listed in the “Amended Final Determination” section below.

⁵ See Memorandum, “Analysis of Ministerial Error Allegation,” dated concurrently with this Federal Register notice (Ministerial Error Memorandum).

⁶ See Jilin Bright's Ministerial Error Allegation at 2-3; see also GHC's Ministerial Error Allegation at 3-4.

⁷ See GHC's Ministerial Error Allegation at 2-3.

⁸ See Memorandum, “Analysis of Ministerial Error Allegation,” dated concurrently with, and hereby adopted by, this notice (Ministerial Error Memorandum); see also Memorandum, “Amended Final Analysis Memorandum for Ningxia Guanghua Cherishmet Activated Carbon Co., Ltd.;” Memorandum, “Amended Final Analysis Memorandum for Jilin Bright Future Chemicals Co., Ltd.;” and Memorandum, “Calculation of the Amended Final Margin for Respondents Not Selected for Individual Examination,” all dated concurrently with this notice.

⁹ See Certain Activated Carbon from the People's Republic of China: Preliminary Results of Antidumping Duty Administrative Review; 2022-2023, 89 FR 35797, (May 2, 2024).

For a complete discussion of the ministerial error allegation, as well as Commerce's analysis, see the accompanying Ministerial Error Memorandum.¹⁰ The Ministerial Error Memorandum is on file electronically via ACCESS. ACCESS is available to registered users at https://access.trade.gov.

¹⁰ Id.

Amended Final Results of Review

As a result of correcting these ministerial errors described above, Commerce determines that the following estimated weighted-average dumping margins exist for the period April 1, 2022, through March 31, 2023:

Exporter | Weighted-average dumping margin (U.S. dollars per kilogram) ¹¹
Jilin Bright Future Chemicals Co., Ltd | 1.90
Ningxia Guanghua Cherishmet Activated Carbon Co., Ltd | 1.10
Separate Rate Applicable For Non-Selected Companies Under Review ¹² | 1.35

Disclosure

¹¹ In the second administrative review of the Order, Commerce determined that it would calculate per-unit weighted-average dumping margins and assessment amounts for all future reviews. See Certain Activated Carbon from the People's Republic of China: Final Results and Partial Rescission of Second Antidumping Duty Administrative Review, 75 FR 70208, 70211 (November 17, 2010).

¹² See the appendix for the list of non-individually examined companies receiving a separate rate.

Commerce intends to disclose the calculations performed in connection with these amended final results of review to interested parties within five days after public announcement of the amended final results or, if there is no public announcement, within five days of the date of publication of the notice of amended final results in the Federal Register, in accordance with 19 CFR 351.224(b).

Assessment Rates

Pursuant to section 751(a)(2)(A) of the Act, and 19 CFR 351.212(b)(1), Commerce shall determine, and U.S. Customs and Border Protection (CBP) shall assess, antidumping duties on all appropriate entries of subject merchandise in accordance with the amended final results of this review.

For the GHC and Jilin Bright, Commerce will calculate importer-specific assessment rates for antidumping duties, in accordance with 19 CFR 351.212(b)(1). For entries that were not reported in the U.S. sales database submitted by the exporter individually examined during this review, Commerce will instruct CBP to liquidate such entries at the China-wide rate.¹³ For the respondents that were not selected for individual examination in this administrative review but qualified for a separate rate, the per unit assessment rate will be the rate established for these companies in these amended final results of review.

¹³ For a full discussion of this practice, see Non-Market Economy Antidumping Proceedings: Assessment of Antidumping Duties, 76 FR 65694 (October 24, 2011).

For the six companies identified in the appendix to this notice as part of the China-wide entity, we will instruct CBP to apply the China-wide per-unit assessment rate to all entries of subject merchandise made during the POR which were exported by those companies.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register the following cash deposit requirements will be effective for all shipments of the subject merchandise from China entered, or withdrawn from warehouse, for consumption on or after the publication date, as provided by section 751(a)(2)(C) of the Act: (1) the amended cash deposit rate for GHC and Jilin Bright and the other companies not individually examined in this review will be equal to the weighted-average dumping margin that is established in the amended final results of this review, except if the rate is less than 0.50 percent and, therefore, de minimis within the meaning of 19 CFR 351.106(c)(1), in which case the cash deposit rate will be zero; (2) for previously investigated or reviewed Chinese and non-Chinese exporters not listed above or in Appendix I that received a separate rate in a prior segment of this proceeding, the cash deposit rate will continue to be the existing exporter-specific rate published for the most recently completed segment of this proceeding; (3) for all Chinese exporters of subject merchandise that have not been found to be entitled to a separate rate, the cash deposit rate will be the rate for the China-wide entity (i.e., 2.42 USD/kg); and (4) for all non- Chinese exporters of subject merchandise that have not received their own separate rate, the cash deposit rate will be the rate applicable to the Chinese exporter that supplied that non- Chinese exporter. These deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the final reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these amended final results of review in accordance with sections 751(h) and 777(i) of the Act and 19 CFR 351.224(e).

Dated: December 17, 2024.
Abdelali Elouaradia,
Deputy Assistant Secretary for Enforcement and Compliance.

Appendix

Separate Rate Applicable for Non-Selected Companies Under Review

1. Bengbu Modern Environmental Co., Ltd.

2. Carbon Activated Tianjin Co., Ltd.

3. Datong Hongdi Carbon Co., Ltd.

4. Datong Juqiang Activated Carbon Co., Ltd.

5. Datong Municipal Yunguang Activated Carbon Co., Ltd.

6. Jacobi Carbons AB; Jacobi Carbons Industry (Tianjin) Co., Ltd.; Tianjin Jacobi International Trading Co. Ltd.; Jacobi Adsorbent Materials

7. Ningxia Huahui Environmental Technology Co., Ltd.

8. Ningxia Mineral & Chemical Limited

9. Shanxi Industry Technology Trading Co., Ltd.

10. Shanxi Sincere Industrial Co., Ltd.

11. Tancarb Activated Carbon Co., Ltd.

12. Tianjin Channel Filters Co., Ltd.

Companies Considered To Be Part of the China-Wide Entity

1. Beijing Pacific Activated Carbon Products Co., Ltd.

2. Shanxi Dapu International Trade Co., Ltd.

3. Shanxi DMD Corp.

4. Shanxi Tianxi Purification Filter Co., Ltd.

5. Sinoacarbon International Trading Co., Ltd.

6. Tianjin Maijin Industries Co., Ltd.

[FR Doc. 2024-30691 Filed 12-23-24; 8:45 am]

BILLING CODE 3510-DS-P